DEPARTMENT OF THE TREASURY

Office of Foreign Assets Control

Additional Identifying Information Associated With Persons Whose Property and Interests in Property Are Blocked Pursuant to Executive Order 13572 of April 29, 2011, “Blocking Property of Certain Persons With Respect to Human Rights Abuses in Syria”

AGENCY: Office of Foreign Assets Control, Treasury.

ACTION: Notice.

SUMMARY: The Treasury Department's Office of Foreign Assets Control (“OFAC”) is publishing additional identifying information associated with the three individuals and two entities listed in the Annex to Executive Order 13572 of April 29, 2011, “Blocking Property of Certain Persons with Respect to Human Rights Abuses in Syria,” whose property and interests in property are therefore blocked.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

This document and additional information concerning OFAC are available from OFAC's Web site (http://www.treas.gov/ofac) or via facsimile through a 24-hour fax-on-demand service, Tel.: 202/622-0077.

Background

On April 29, 2011, the President issued Executive Order 13572, “Blocking Property of Certain Persons with Respect to Human Rights Abuses in Syria,” (the “Order”) pursuant to, inter alia, the International Emergency Economic Powers Act (50 U.S.C. 1701-06). In the Order, the President expanded the scope of the national emergency declared in Executive Order 13338 of May 11, 2004.

Section 1 of the Order blocks, with certain exceptions, all property and interests in property that are in the United States, that come within the United States, or that are or come within the possession or control of any United States person, of persons listed in the Annex to the Order and of persons determined by the Secretary of the Treasury, in consultation with the Secretary of State, to satisfy certain criteria set forth in the Order.

The Annex to the Order lists three individuals and two entities whose property and interests in property are blocked pursuant to the Order. OFAC is publishing additional identifying information associated with those individuals and entities. As noted in the listings below, the property and interests in property of one of those entities also are blocked pursuant to other OFAC sanctions programs.

The listings for those individuals and entities on OFAC's list of Specially Designated Nationals and Blocked Persons appear as follows:

Individuals

1. AL-ASAD, Mahir (a.k.a. ASSAD, Mahar; a.k.a. ASSAD, Maher); DOB 1968; Lieutenant Colonel; Position: Brigade Commander in the Syrian Army's 4th Armored Division (individual) [SYRIA.]

2. MAMLUK, Ali (a.k.a. MAMLUK, 'Ali); DOB 1947; POB Amara, Damascus, Syria; Major General; Position: Director, General Intelligence Directorate (individual) [SYRIA.]

3. NAJIB, Atif (a.k.a. NAJEEB, Atef; a.k.a. NAJIB, Atef); POB Jablah, Syria; Brigadier General; Position: Former head of the Syrian Political Security Directorate for Dar'a Province (individual) [SYRIA.]

Entities

1. ISLAMIC REVOLUTIONARY GUARD CORPS (IRGC)-QODS FORCE (a.k.a. PASDARAN-E ENGHELAB-E ISLAMI (PASDARAN); a.k.a. SEPAH-E QODS (JERUSALEM FORCE)) [SDGT] [SYRIA] [IRGC.]

2. SYRIAN GENERAL INTELLIGENCE DIRECTORATE (a.k.a. IDERAT AL-AMN AL-'AMM), Syria [SYRIA.]

Dated: May 4, 2011.
Adam Szubin,
Director, Office of Foreign Assets Control.

[FR Doc. 2011-11556 Filed 5-10-11; 8:45 am]

BILLING CODE 4810-AL-P